FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
001833F | Commodity Forwarders, Inc., 11101 South La Cienega Blvd., Los Angeles, CA 90045. | September 5, 2005.
003296F | Consuelo E. Kelly dba, Kelly International, 10257 Switzer, Overland Park, KS 66212. | August 26, 2005.
017663N | Data Cargo Co., Inc., 8757 NW 35 lane, Miami, FL 33172. | February 12, 2005.
018332N | Pioneer Logistics, Inc., 2300 Higgins Road, Suite 204, Elk Grove Village, IL 60007. | August 25, 2005.

Sandra L. Kusumoto,
Director, Bureau of Consumer Complaints and Licensing.

[FR Doc. 05-20014 Filed 10-4-05; 8:45 am]

BILLING CODE 6730-01-P